DEPARTMENT OF THE TREASURY

Internal Revenue Service

Modem Speeds for Electronic Filing

AGENCY: Internal Revenue Service (IRS), Treasury.

ACTION: Notice.

SUMMARY: This announcement serves as a follow-up to the August 2000 notice (65 FR 49292, August 11, 2000) which stated that the Internal Revenue Service is exploring the feasibility of eliminating modem speeds under 28.8Kbps for Electronic Filing. An inquiry regarding modem speeds used by our trading partners was also published on the Digital Daily and Electronic Filing System Bulletin Board.

The feedback we received indicates that establishing higher file transfer speed requirements at this time would result in a negative impact on some of our trading partners. Therefore, for the 2001 filing season ETA has decided not to change the requirements for transmitting returns to the IRS e-file system.

ETA would like to thank everyone who responded to our request for modem speed information. We will continue to explore this issue in preparation for the 2002 filing season.

ADDRESSES: Questions or concerns should be directed to Dapheny McCray, Program Analyst, IRS, Electronic Tax Administration, W:E:IEF:IB, 5000 Ellin Road, Room C4-188, Lanham, MD 20706.

FOR FURTHER INFORMATION CONTACT: Questions or concerns will also be taken over the telephone. Call 202-283-0685 (not a toll-free number) or via email to: Daphney.McCray@irs.gov

Approved:
Kathleen Upton,
Acting Director, Individual Electronic Filing Division, Electronic Tax Administration.

[FR Doc. 01-3776 Filed 2-13-01; 8:45 am]

BILLING CODE 4830-01-P